DEPARTMENT OF HOUSING AND URBAN DEVELOPMENT

[Docket No. FR-5909-N-57]

30-Day Notice of Proposed Information Collection: ConnectHome Baseline Survey Data Collection

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 15, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Anna P. Guido, Reports Management Officer, QDAM, Department of Housing and Urban Development, 451 7th Street SW., Washington, DC 20410; email Anna P. Guido at Anna.P.Guido@hud.gov or telephone 202-402-5533. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on Friday, May 6, 2016 at 81 FR 27462.

A. Overview of Information Collection

Title of Information Collection: ConnectHome Baseline Survey Data Collection.

OMB Control Number: 2528-0308.

Form Number: Survey.

Type of Request: Reinstatement.

Description of the need for information and proposed use: The purpose of this effort is to support communities in the 28 ConnectHome sites in administering a baseline survey of targeted residents' current at-home Internet access. The survey administration will include the development of an outreach plan with HUD ConnectHome collaborators and communities; selection of a sample of participants to be surveyed; administration of an initial baseline internet access survey; and submission of a database, codebook, and frequency output tables for collected data; and submission of a summary analysis of the collected data.

The baseline survey will provide HUD with baseline measures of in-home high-speed internet access, barriers to access among those without access, and types of devices used to access the internet. Upon establishing baseline measures, HUD's ConnectHome team will use this information to support local efforts in closing the digital divide

Respondents (describe): The survey is expected to be administered by mail or by Public Housing Authority staff in person or by phone to targeted assisted households at 28 ConnectHome sites. Communities are targeting different populations, which the survey's sampling process will recognize that some communities are targeting only public housing households with children, while others are also targeting voucher holders or residents of HUD multifamily housing in addition or instead.

Estimated Number of Respondents: 2,800.

Estimated Number of Responses: 2,800.

Frequency of Response: One time.

Average Hours per Response: 5 minutes (.0833 hours).

Total Estimated Burdens: 233.24.

ConnectHome Baseline Survey Data Collection
Submission requirements | Number respondents | Number responses | Total responses | Hours per response | Total hours | Cost per hour | Total cost
Baseline Survey | 5600 | 2800 | 2800 | .0833 | 233.24 | $7.25 | $1,690.99
Total Paperwork Burden | 5600 | 2800 | 2800 | .0833 | 233.24 | 7.25 | 1,690.99

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 9, 2016.
Inez C. Downs,
Department Paperwork Reduction Act Officer, Office of the Chief Information Officer.

[FR Doc. 2016-19511 Filed 8-15-16; 8:45 am]

BILLING CODE 4210-67-P